COMMISSION ON CIVIL RIGHTS

Agenda and Notice of Public Meeting of the New York Advisory Committee

Notice is hereby given, pursuant to the provisions of the rules and regulations of the U.S. Commission on Civil Rights, that a conference call of the New York Advisory Committee to the Commission will begin at 2 p.m. and end at 3:30 p.m. on Wednesday, March 26, 2003. This conference call is available to the public through the following call-in number: 1-800-659-1203, access code: 15778611. Any interested member of the public may call this number and listen to the meeting. The purpose of the conference call is to plan a community forum on civil rights issues and post 9/11 law enforcement-community relations in New York.

To ensure that the Commission secures an appropriate number of lines, persons are asked to register by contacting Aonghas St. Hilaire of the Eastern Regional Office, 202-376-7533 (TDD 202-376-8116), by 4 p.m. on Tuesday, March 25, 2003.

The meeting will be conducted pursuant to the provisions of the rules and regulations of the Commission.

Dated in Washington, DC, March 4, 2003.
Ivy L. Davis,
Chief, Regional Programs Coordination Unit.

[FR Doc. 03-5590 Filed 3-7-03; 8:45 am]

BILLING CODE 6335-01-P